DEPARTMENT OF JUSTICE

Drug Enforcement Administration

[Docket No. DEA-392]

Importer of Controlled Substances Application: CATALENT CTS, LLC; Correction

ACTION: Notice of correction.

In the Tuesday, June 17, 2014, Federal Register document number 2014-14123, Vol. 79, No. 116, page 34551, third column, the second paragraph, remove the first sentence from the paragraph: “In reference to drug code 7360, the company plans to import a synthetic cannabidiol.”

Dated: August 19, 2014.
Joseph T. Rannazzisi,
Deputy Assistant Administrator.

[FR Doc. 2014-20119 Filed 8-22-14; 8:45 am]

BILLING CODE 4410-09-P